DEPARTMENT OF TRANSPORTATION

Federal Aviation Administration

14 CFR Part 39

[Docket No. 2003-CE-32-AD]

RIN 2120-AA64

Airworthiness Directives; The New Piper Aircraft, Inc. Model PA-46-500TP Airplanes

AGENCY: Federal Aviation Administration (FAA), DOT.

ACTION: Notice of proposed rulemaking (NPRM).

SUMMARY: The FAA proposes to adopt a new airworthiness directive (AD) for certain The New Piper Aircraft, Inc. (Piper) Model PA-46-500TP airplanes. This proposed AD would require you to replace all electronic control modules in the airplane electrical system with newly designed modules. This proposed AD is the result of reports of smoke in the cockpit and loss of electrical systems function. We are issuing this proposed AD to prevent short circuit failure and electrical arcing of the electronic control modules, which could result in loss of the electrical systems components or burning of wiring insulation and cause smoke in the cockpit. Such a condition could lead to the inability to properly control the airplane.

DATES: We must receive any comments on this proposed AD by December 9, 2003.

ADDRESSES: Use one of the following to submit comments on this proposed AD:

• By mail: FAA, Central Region, Office of the Regional Counsel, Attention: Rules Docket No. 2003-CE-32-AD, 901 Locust, Room 506, Kansas City, Missouri 64106.

• By fax: (816) 329-3771.

• By e-mail: 9-ACE-7-Docket@faa.gov. Comments sent electronically must contain “Docket No. 2003-CE-32-AD” in the subject line. If you send comments electronically as attached electronic files, the files must be formatted in Microsoft Word 97 for Windows or ASCII.

You may get the service information identified in this proposed AD from The New Piper Aircraft, Inc., Customer Services, 2926 Piper Drive, Vero Beach, Florida 32960; telephone: (772) 567-4361; facsimile: (772) 978-6584.

You may view the AD docket at FAA, Central Region, Office of the Regional Counsel, Attention: Rules Docket No. 2003-CE-32-AD, 901 Locust, Room 506, Kansas City, Missouri 64106. Office hours are 8 a.m. to 4 p.m., Monday through Friday, except Federal holidays.

FOR FURTHER INFORMATION CONTACT: Kenneth B. Mobley, Aerospace Engineer, FAA, Atlanta Aircraft Certification Office, One Crown Center, 1895 Phoenix Boulevard, Suite 450, Atlanta, Georgia 30349; telephone: (770) 703-6046; facsimile: (770) 703-6097.

SUPPLEMENTARY INFORMATION:

Comments Invited

How Do I Comment on This Proposed AD?

We invite you to submit any written relevant data, views, or arguments regarding this proposal. Send your comments to an address listed under ADDRESSES. Include “AD Docket No. 2003-CE-32-AD” in the subject line of your comments. If you want us to acknowledge receipt of your mailed comments, send us a self-addressed, stamped postcard with the docket number written on it. We will date-stamp your postcard and mail it back to you.

Are There Any Specific Portions of This Proposed AD I Should Pay Attention To?

We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

What Events Have Caused This Proposed AD?

We have received several reports that a condition exists in some of the electrical control modules in the airplane electrical system.

FAA analysis indicates that there is inadequate clearance and inadequate electrical isolation between the load terminal and metal case. The modules load terminal is cutting through the rubber insulating grommet and contacting the module's metal case. This causes the electrical short circuit and electrical arcing.

The following electrical system components are potentially affected by this condition:

Engine start

Strobe light

Left/right taxi light

Liquid crystal display (LCD) dimming

Dual flasher (recognition light)

Left/right pitot heat

Avionics dimming (Bezel buttons for radios)

Prop heat

Left/right fuel pump

Position light landing light

Instrument panel light dimming

Ice light

Vent defog (vent blower)

Hi/low blower

Stall heat

Dimmer switch lighting (overhead switch panel switches)

What Are the Consequences if the Condition Is Not Corrected?

If not corrected, short circuit failure and electrical arcing of the electronic control modules could result in loss of the electrical systems components or burning of wiring insulation and cause smoke in the cockpit. Such a condition could lead to the inability to properly control the airplane.

Is There Service Information That Applies to This Subject?

Piper has issued the Service Bulletin No. 1132, dated June 4, 2003.

What Are the Provisions of This Service Information?

The service bulletin includes procedures for:

—Removing the pilot's circuit breaker panel assembly (part-number (P/N) 102228-002); the co-pilot's circuit breaker panel assembly (P/N 102228-006); the dimmer lighting module assembly (P/N 102226-002); the stall vane heat module assembly (P/N 102227-002); and the propeller heat module assembly (P/N 102227-006);

—Returning the panel assemblies and remote module parts to the manufacture for modification;

—Visually inspecting all remaining exposed wires and equipment for evidence of heat damage;

—Repairing any damage found; and

—Installing the newly modified panel assemblies and remote module parts.

FAA's Determination and Requirements of This Proposed AD

What Has FAA Decided?

We have evaluated all pertinent information and identified an unsafe condition that is likely to exist or develop on other products of this same type design. Therefore, we are proposing AD action.

What Would This Proposed AD Require?

This proposed AD would require you to incorporate the actions in the previously-referenced service bulletin.

How Does the Revision to 14 CFR Part 39 Affect This Proposed AD?

On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How Many Airplanes Would This Proposed AD Impact?

We estimate that this proposed AD affects 130 airplanes in the U.S. registry.

What Would Be the Cost Impact of This Proposed AD on Owners/Operators of the Affected Airplanes?

We estimate the following costs to accomplish this proposed modification:

Labor cost | Parts cost | Total cost per airplane | Total cost on U.S. operators
22 × $65 per hour = $1,430 | Parts will be covered under warranty by the manufacturer | $1,430 | $1,430 × 130 = $185,900

Regulatory Findings

Would This Proposed AD Impact Various Entities?

We have determined that this proposed AD would not have federalism implications under Executive Order 13132. This proposed AD would not have a substantial direct effect on the States, on the relationship between the national Government and the States, or on the distribution of power and responsibilities among the various levels of government.

Would This Proposed AD Involve a Significant Rule or Regulatory Action?

For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2003-CE-32-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The New Piper Aircraft, Inc.: Docket No. 2003-CE-32-AD

When Is the Last Date I Can Submit Comments on This Proposed AD?

(a) We must receive comments on this proposed airworthiness directive (AD) by December 9, 2003.

What Other ADs Are Affected by This Action?

(b) None.

What Airplanes Are Affected by This AD?

(c) This AD affects Model PA-46-500TP airplanes, serial numbers 4697001 through 4697140 and 4697142 through 4697153, that are certificated in any category.

What Is the Unsafe Condition Presented in This AD?

(d) This AD is the result of reports of smoke in the cockpit and loss of electrical system functions. We are issuing this AD to prevent short circuit failure of the electronic control modules, which could result in loss of the electrical system components or burning of wiring insulation and cause smoke in the cockpit. Such a condition could lead to the inability to properly control the airplane.

What Must I Do To Address This Problem?

(e) To address this problem, you must accomplish the following:

Actions | Compliance | Procedures
(1) Remove the following parts: (i) The pilot's circuit breaker panel assembly (part-number (P/N) 102228-002); (ii) The co-pilot's circuit breaker panel assembly (P/N 102228-006); (iii) The dimmer lighting module assembly (P/N 102226-002); (iv) The stall vane heat module assembly (P/N 102227-002); and (v) The propeller heat module assembly (P/N 102227-006) | Within the next 100 hours time-in-service (TIS) after the effective date of this AD | Per the instructions in Piper Service Bulletin No. 1132, dated June 4, 2003.
(2) Return the circuit breaker panels and the remote modules identified in paragraph (e)(1) of this AD to the manufacturer listed in paragraph (g) of this AD for modification | Prior to further flight after doing the actions required in paragraph (e)(1) of this AD | Per the instructions in Piper Service Bulletin No. 1132, dated June 4, 2003.
(3) Visually inspect all remaining exposed wires and equipment for evidence of heat damage and repair any damage found | Prior to further flight after doing the actions required in paragraph (c)(1) of this AD | Per the instructions in Piper Service Bulletin No. 1132, dated June 4, 2003.
(4) Install the modified circuit breaker panel assemblies and the remote modules received from the manufacturer | Prior to further flight after doing the actions required in paragraphs (e)(1), (e)(2), and (e)(3) of this AD | Use the instructions in Piper Service Bulletin No. 1132, dated June 4, 2003.
(5) Do not install any part referenced in paragraph (e)(1) of this AD unless it has been modified per Piper Service Bulletin No. 1132, dated June 4, 2003 | As of the effective date of this AD | Not applicable.

What About Alternative Methods of Compliance?

(f) You may request a different method of compliance or a different compliance time for this AD by following the procedures in 14 CFR 39.13. Send your request to the Manager, Atlanta Aircraft Certification Office (ACO), FAA. For information on any already approved alternative methods of compliance, contact Kenneth B. Mobley, Aerospace Engineer, FAA, Atlanta Aircraft Certification Office, One Crown Center, 1895 Phoenix Boulevard, Suite 450, Atlanta, Georgia 30349; telephone: (770) 703-6046; facsimile: (770) 703-6097.

How Do I Get Copies of the Documents Referenced in This AD?

(g) You may get copies of the documents referenced in this AD from The New Piper Aircraft, Inc., Customer Services, 2926 Piper Drive, Vero Beach, Florida 32960; telephone: (772) 567-4361; facsimile: (772) 978-6584. You may view these documents at FAA, Central Region, Office of the Regional Counsel, 901 Locust, Room 506, Kansas City, Missouri 64106.

Issued in Kansas City, Missouri, on October 3, 2003.
Michael Gallagher,
Manager, Small Airplane Directorate, Aircraft Certification Service.

[FR Doc. 03-25581 Filed 10-8-03; 8:45 am]

BILLING CODE 4910-13-P